DEPARTMENT OF DEFENSE

Defense Acquisition Regulations System

48 CFR Parts 215, 225, and 252

RIN 0750-AH42

Defense Federal Acquisition Regulation Supplement: Contracting With the Canadian Commercial Corporation (DFARS Case 2011-D049)

AGENCY: Defense Acquisition Regulations System, Department of Defense (DoD).

ACTION: Proposed rule; correction.

SUMMARY: This document corrects the preamble to a proposed rule published in the Federal Register on October 4, 2011, regarding the requirement for the Canadian Commercial Corporation to submit data other than certified cost or pricing data. This correction clarifies background information concerning the origination of the proposed rule.

FOR FURTHER INFORMATION CONTACT: Amy G. Williams, telephone 703-602-0328.

Correction

In the proposed rule published October 4, 2011, at 76 FR 61296, make the following correction in the SUPPLEMENTARY INFORMATION section by replacing the first sentence, at paragraph I. Background, with the following sentence:

“This proposed rule solicits public comments on suggested DoD clarifications to DFARS subpart 215.4, discussed during bilateral integrated product team meetings of representatives from the U.S. Government and Canada.”

Dated: October 18, 2011.
Mary Overstreet,
Editor, Defense Acquisition Regulations System.

[FR Doc. 2011-26944 Filed 10-17-11; 8:45 am]

BILLING CODE 5001-06-P